DEPARTMENT OF THE INTERIOR

Fish and Wildlife Service

Stone Lakes National Wildlife Refuge, Sacramento County, CA

AGENCY: Fish and Wildlife Service, Interior.

ACTION: Notice of availability: final comprehensive conservation plan and finding of no significant impact.

SUMMARY: The U.S. Fish and Wildlife Service (Service) announces that the Stone Lakes National Wildlife Refuge (Refuge) Final Comprehensive Conservation Plan (CCP), and Finding of No Significant Impact (FONSI) are available for distribution. The CCP prepared pursuant to the National Wildlife Refuge System Improvement Act of 1997, and in accordance with the National Environmental Policy Act of 1969, describes how the Service will manage the Refuge for the next 15 years.

DATES: The CCP and FONSI are available now. Implementation of the CCP may begin immediately.

ADDRESSES: Copies of the CCP may be obtained by writing to the U.S. Fish and Wildlife Service, Attn: David Bergendorf, CNO Refuge Planning Office, 2800 Cottage Way, W-1832, Sacramento, CA 95825. Copies of the CCP may be viewed at this address or at Stone Lakes National Wildlife Refuge, 1624 Hood-Franklin Road, Elk Grove, CA 95757. The CCP is also available for viewing and downloading online at: http://www.fws.gov/stonelakes/ccp.htm.

Printed copies of the CCP and FONSI are also available at the following libraries: Sacramento Central Library, 828 I Street, Sacramento, CA 95814; Arden-Dimick Library, 891 Watt Avenue, Sacramento, CA 95864; Belle Cooledge Library, 5600 South Land Park Drive, Sacramento, CA 95822; Elk Grove Library, 8962 Elk Grove Blvd., Elk Grove, CA 95624; Clarksburg Yolo County Library, 52915 Netherlands Road, Clarksburg, CA 95612; Colonial Heights Library, 4799 Stockton Blvd., Sacramento, CA 95820; Courtland Library Neighborhood Library, 170 Primasing Avenue, Courtland, CA 95615; and the Galt Branch Library (Marian O. Lawrence Library), 1000 Caroline Avenue, Galt, CA 95632.

FOR FURTHER INFORMATION CONTACT: Beatrix Treiterer, acting Project Leader, Stone Lakes National Wildlife Refuge, 1624 Hood-Franklin Road, Elk Grove, CA 95757 or David Bergendorf, Refuge Planner, 2800 Cottage Way, W-1832, Sacramento, CA 95825, phone (916) 414-6503.

SUPPLEMENTARY INFORMATION:

Background

The Refuge was established in 1994 primarily to protect and manage wintering habitat for migratory birds and to protect endangered and threatened species. The Refuge is located in the Beach-Stone Lakes Basin within the Sacramento Valley in southwestern Sacramento County; it lies south of the city of Sacramento, straddling Interstate 5 from the town of Freeport south to Lost Slough.

The Draft CCP and Environmental Assessment (EA) was available for a 30-day public review and comment period, which was announced via several methods including press releases; updates to constituents; and in the Federal Register (71 FR 55801, September 25, 2006). Due to requests from constituents, the review and comment period was extended for an additional 30 days. The Draft CCP/EA identified and evaluated three alternatives for managing the Refuge for the next 15 years. Alternative A was the no-action alternative, which described current Refuge management activities. Alternative B emphasized continued focus on providing wintering habitat for migratory birds and management for the benefit of special status species as well as expanding overall visitor services. Alternative C focused on providing wintering habitat for migratory birds and management for the benefit of endangered species, while placing greater emphasis on management and restoration of historic habitat conditions and expanding overall visitor services.

The Service received 25 letters, faxes and e-mails, and one phone call on the Draft CCP and EA during the review period. Many comments were also received during two public comment meetings, which were held on October 4 and 5, 2006. The comments received were incorporated into the CCP, when possible, and are responded to in an appendix to the CCP. In the FONSI, Alternative B was selected for implementation and is the basis for the CCP. The FONSI documents the decision of the Service and is based on the information and analysis contained in the EA.

Under the selected alternative, the Refuge will continue its focus of providing wintering habitat for migratory birds and management to benefit endangered species. Management programs for migratory birds and other Central Valley wildlife will be expanded and improved and public use opportunities will also be expanded. The number of Refuge units open to the public will increase from one to five. In addition, environmental education, interpretation, wildlife observation, wildlife photography, hunting, and fishing programs will be expanded.

The selected alternative best achieves the Refuge's purposes, vision, and goals; contributes to the Refuge System mission; addresses the significant issues and relevant mandates; and is consistent with principles of sound fish and wildlife management.

Dated: July 20, 2007.
Ken McDermond,
Acting Manager, California/Nevada Operations, Sacramento, California.

[FR Doc. E7-14425 Filed 7-25-07; 8:45 am]

BILLING CODE 4310-55-P